SUSQUEHANNA RIVER BASIN COMMISSION

Public Hearing

AGENCY: Susquehanna River Basin Commission.

ACTION: Notice.

SUMMARY: The Susquehanna River Basin Commission will hold a public hearing on February 2, 2023. The Commission will hold this hearing in-person and telephonically. At this public hearing, the Commission will hear testimony on the projects listed in the SUPPLEMENTARY INFORMATION section of this notice. Such projects are intended to be scheduled for Commission action at its next business meeting, tentatively scheduled for March 16, 2023, which will be noticed separately. The public should take note that this public hearing will be the only opportunity to offer oral comment to the Commission for the listed projects. The deadline for the submission of written comments is February 13, 2023.

DATES: The public hearing will convene on February 2, 2023, at 6:30 p.m. The public hearing will end at 9:00 p.m. or at the conclusion of public testimony, whichever is earlier. The deadline for the submission of written comments is Monday, February 13, 2023.

ADDRESSES: This public hearing will be conducted in-person and virtually. You may attend in person at Susquehanna River Basin Commission, 4423 N Front St., Harrisburg, Pennsylvania or join by telephone using Toll Free Number 1-877-304-9269 and then entering guest passcode 2619070 followed by #.

FOR FURTHER INFORMATION CONTACT: Jason Oyler, General Counsel and Secretary to the Commission, telephone: (717) 238-0423 or joyler@srbc.net. Information concerning the applications for the projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor: Biglerville Borough Authority. Project Facility: Biglerville Borough Water Company, Biglerville Borough and Butler Township, Adams County, Pa. Application for renewal of groundwater withdrawal of up to 0.112 mgd (30-day average) from Well 7 (Docket No. 19930503).

2. Project Sponsor and Facility: BKV Operating, LLC (North Branch Wyalusing Creek), Middletown Township, Susquehanna County, Pa. Application for surface water withdrawal of up to 2.731 mgd (peak day).

3. Project Sponsor and Facility: Dillsburg Area Authority, Carroll Township, York County, Pa. Application for renewal of groundwater withdrawal of up to 0.460 mgd (30-day average) from Well 7 (Docket No. 20070907).

4. Project Sponsor and Facility: Dover Township, York County, Pa. Application for renewal of groundwater withdrawal of up to 0.360 mgd (30-day average) from Well 8 (Docket No. 19911104).

5. Project Sponsor and Facility: First Quality Tissue, LLC (Bald Eagle Creek), Allison, Bald Eagle, and Castanea Townships, Clinton County, Pa. Applications for renewal of surface water withdrawal of up to 10.500 mgd (peak day) and consumptive use of up to 2.500 mgd (peak day) (Docket No. 20080303).

6. 2022-094; 2020-017 Project Sponsor and Facility: Hardinge Inc., Town of Horseheads, Chemung County, N.Y. Applications for groundwater withdrawals (30-day averages) of up to 0.550 mgd from Well 4 and renewal of 0.580 mgd from Well 5 (Docket No. 19900302).

7. Project Sponsor: Helix Ironwood, LLC. Project Facility: Ironwood Generating Station (Pennsy Quarry), South Lebanon Township, Lebanon County, Pa. Applications for renewal of surface water withdrawal of up to 4.500 mgd (peak day) and consumptive use of up to 4.500 mgd (peak day) (Docket No. 19980502).

8. Project Sponsor and Facility: Mount Union Municipal Authority, Wayne Township, Mifflin County, Pa. Application for renewal of groundwater withdrawal of up to 0.432 mgd (30-day average) from Well #3—Lemkelde (Docket No. 20070303).

9. Project Sponsor and Facility: Repsol Oil & Gas USA, LLC (Fall Brook), Ward Township, Tioga County, Pa. Application for renewal of surface water withdrawal of up to 0.999 mgd (peak day) (Docket No. 20180303).

10. Project Sponsor and Facility: Repsol Oil & Gas USA, LLC (Fellows Creek), Ward Township, Tioga County, Pa. Application for renewal of surface water withdrawal of up to 0.999 mgd (peak day) (Docket No. 20180304).

11. Project Sponsor and Facility: Seneca Resources Company, LLC (Arnot No. 5 Mine Discharge), Bloss Township, Tioga County, Pa. Application for renewal of surface water withdrawal of up to 0.499 mgd (peak day) (Docket No. 20180305).

12. Project Sponsor and Facility: Seneca Resources Company, LLC (Cowanesque River), Deerfield Township, Tioga County, Pa. Application for renewal with modification to increase the surface water withdrawal by an additional 0.661 mgd, for a total of up to 1.600 mgd (peak day) (Docket No. 20220920).

13. Project Sponsor and Facility: Seneca Resources Company, LLC (Susquehanna River), Sheshequin Township, Bradford County, Pa. Application for renewal of surface water withdrawal of up to 0.850 mgd (peak day) (Docket No. 20180306).

14. Project Sponsor: Springwood, LLC. Project Facility: Bridgewater Golf Club, York Township, York County, Pa. Application for renewal of consumptive use of up to 0.099 mgd (30-day average) (Docket No. 20080307).

15. Project Sponsor and Facility: SWN Production Company, LLC (Susquehanna River), Great Bend Township, Susquehanna County, Pa. Application for renewal of surface water withdrawal of up to 1.500 mgd (peak day) (Docket No. 20180307).

16. Project Sponsor and Facility: Wise Foods, Inc., Berwick Borough, Columbia County, Pa. Application for renewal of groundwater withdrawal of up to 0.860 mgd (30-day average) from Well PW-1 (Docket No. 19920502).

17. Project Sponsor: Wynding Brook Inc. Project Facility: Wynding Brook Golf Club, Turbot Township, Northumberland County, Pa. Application for renewal of consumptive use of up to 0.099 mgd (30-day average) (Docket No. 20080304).

Project Scheduled for Action Involving a Diversion

18. Project Sponsor: Helix Ironwood, LLC. Project Facility: Ironwood Generating Station, South Lebanon Township, Lebanon County, Pa. Application for renewal of approval of an out-of-basin diversion of up to 4.500 mgd (peak day) (Docket No. 19980502).

Commission-Initiated Project Approval Modification

19. Project Sponsor: Knouse Foods Cooperative, Inc. Project Facility: Peach Glen Plant, Tyrone and Huntington Townships, Adams County, and Dickinson Township, Cumberland County, Pa. Conforming the grandfathered amount with the forthcoming determination for groundwater withdrawals (30-day averages) of up to 0.327 mgd combined from Wells 2, 4, 5, 7, 8, 9, 10, and 13, and up to 0.046 mgd from Well 13 (Docket No. 20040912).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before February 13, 2023, to be considered.

Authority: Pub. L. 91-575, 84 Stat. 1509 et seq., 18 CFR parts 806, 807, and 808.

Dated: January 6, 2023.
Jason E. Oyler,
General Counsel and Secretary to the Commission.

[FR Doc. 2023-00377 Filed 1-10-23; 8:45 am]

BILLING CODE 7040-01-P